DEPARTMENT OF STATE

[Public Notice: 9998]

Notice; Call for Expert Reviewers

AGENCY: Department of State.

ACTION: Notice; call for expert reviewers.

SUMMARY: The United States Government encourages relevant experts to provide comments to the Intergovernmental Platform on Biodiversity and Ecosystem Services (IPBES) on six assessments related to biodiversity and ecosystem services: Four regional assessments, one global assessment, and one assessment on land degradation and restoration.

DATES: The three regional draft assessments and the land degradation and restoration draft assessment: Available for review now until June 26, 2017.

The Americas regional draft assessment: Available for review from May 29-July 24, 2017.

The global draft assessment: Available for review from June 15-August 15, 2017.

FOR FURTHER INFORMATION CONTACT: Stephanie Aktipis (AktipisS@state.gov).

SUPPLEMENTARY INFORMATION: The United States is an active member of IPBES, an independent intergovernmental body that assesses the state of biodiversity and of the ecosystem services biodiversity provides to society. The U.S. Government is committed to an open and transparent review process, and welcomes participation of all government and non-government subject matter experts. The U.S. government encourages individuals with significant expertise and/or publications relevant to these assessments to serve as expert reviewers.

Interested experts will first register as users of the IPBES Web site (http://www.ipbes.net/user/register?destination=sod-review) and then can apply to become IPBES reviewers at www.ipbes.net/sod-review (this will only work when logged in to the IPBES Web site). Reviewers will receive an email providing access to the draft assessments and will be requested to submit their comments using a template that is available on the same Web page. All relevant comments will then be addressed by the assessment authors in the next round of revisions.

The final drafts of the regional and land degradation and restoration assessments will be considered by IPBES Member States at the 6th IPBES Plenary meeting in March 2018. The global draft assessment will be released for a second public review later in 2018.

Sherry Zalika Sykes,
Director, Acting, Office of Conservation and Water, Bureau of Oceans and International Environmental and Scientific Affairs, Department of State.

[FR Doc. 2017-10214 Filed 5-18-17; 8:45 am]

BILLING CODE 4710-09-P